DEPARTMENT OF HEALTH AND HUMAN SERVICES

Centers for Medicare and Medicaid Services

[CMS-10596, CMS-906, CMS-1771, CMS-1450, CMS-1500 (02-12)]

Agency Information Collection Activities: Submission for OMB Review; Comment Request

Correction

In notice document 2016-02278 beginning on page 6277 in the issue of Friday, February 5, 2016, make the following correction:

On page 6777, in the “DATES” section in the first column, “April 6, 2016” should read “March 7, 2016”.

[FR Doc. C1-2016-02278 Filed 3-10-16; 8:45 am]

BILLING CODE 1505-01-D